DEPARTMENT OF HOMELAND SECURITY

U.S. Customs and Border Protection

DEPARTMENT OF THE TREASURY

19 CFR Part 12

[CBP Dec. 23-11]

RIN 1515-AE82

Extension and Amendment of Import Restrictions Imposed on Archaeological and Ethnological Material of Cambodia

AGENCY: U.S. Customs and Border Protection, Department of Homeland Security; Department of the Treasury.

ACTION: Final rule.

SUMMARY: This document amends the U.S. Customs and Border Protection (CBP) regulations to reflect an extension of import restrictions on certain archaeological and ethnological material of Cambodia, the addition of certain categories of archaeological and ethnological material of Cambodia to the existing import restrictions, and the clarification of certain categories of archaeological material of Cambodia. The United States has entered into an agreement with Cambodia that supersedes the existing agreement and amends the import restrictions that became effective on September 19, 2018. The restrictions, originally imposed by Treasury Decision (T.D.) 99-88 and last extended by CBP Dec. 18-11 for an additional five-year period, will continue with these amendments through September 19, 2028. The Designated List of archaeological and ethnological material of Cambodia to which the restrictions apply is reproduced below, with the amendments described.

DATES: Effective on September 19, 2023.

FOR FURTHER INFORMATION CONTACT: For legal aspects, W. Richmond Beevers, Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

The Convention on Cultural Property Implementation Act (Pub. L. 97-446, 19 U.S.C. 2601 et seq.) (CPIA), which implements the 1970 United Nations Educational, Scientific and Cultural Organization (UNESCO) Convention on the Means of Prohibiting and Preventing the Illicit Import, Export and Transfer of Ownership of Cultural Property (823 U.N.T.S. 231 (1972)) (the Convention), allows for the conclusion of an agreement between the United States and another party to the Convention to impose import restrictions on eligible archaeological and ethnological materials. Under the CPIA and the applicable U.S. Customs and Border Protection (CBP) regulations, found in § 12.104 of title 19 of the Code of Federal Regulations (19 CFR 12.104), the restrictions are effective for no more than five years beginning on the date on which an agreement enters into force with respect to the United States (19 U.S.C. 2602(b)). This period may be extended for additional periods, each extension not to exceed five years, if it is determined that the factors justifying the initial agreement still pertain and no cause for suspension of the agreement exists (19 U.S.C. 2602(e); 19 CFR 12.104g(a)).

In certain limited circumstances, the CPIA authorizes the imposition of restrictions on an emergency basis (19 U.S.C. 2603). The emergency restrictions are effective for no more than five years from the date of the State Party's request and may be extended for three years where it is determined that the emergency condition continues to apply with respect to the covered material (19 U.S.C. 2603(c)(3)). These restrictions may also be continued pursuant to an agreement concluded within the meaning of the CPIA (19 U.S.C. 2603(c)(4)). Additionally, after any restriction enters into force, either through an agreement or emergency action, CBP will by regulation promulgate (and when appropriate revise) a list of the archaeological or ethnological material of the State Party covered by the agreement or by such emergency action (19 U.S.C. 2604).

On December 2, 1999, the former United States Customs Service published Treasury Decision (T.D.) 99-88 in the Federal Register (64 FR 67479) amending 19 CFR 12.104g(b) to reflect the imposition of emergency restrictions on the importation of certain Khmer stone archaeological material of the Kingdom of Cambodia from the 6th century through the 16th century A.D.

On September 19, 2003, the United States entered into the “Memorandum of Understanding Between the Government of the United States of America and the Government of the Kingdom of Cambodia Concerning the Imposition of Import Restrictions on Khmer Archaeological Material” (2003 MOU). The 2003 MOU provided for import restrictions on certain Khmer archaeological material from the 6th century through the 16th century A.D. and continued to include the archaeological material then subject to the emergency restrictions.

On September 22, 2003, CBP published a final rule, CBP Decision (CBP Dec.) 03-28, in the Federal Register (68 FR 55000), amending 19 CFR 12.104g(a) to reflect the imposition of these restrictions and including a list designating the types of archaeological material covered by the restrictions. Consistent with the requirements of 19 U.S.C. 2602(b) and 19 CFR 12.104g, these restrictions were effective for a period of five years.

The import restrictions were subsequently extended three times, and the designated list amended once, in accordance with 19 U.S.C. 2602(e) and 19 CFR 12.104g(a). On September 19, 2008, CBP published a final rule (CBP Dec. 08-40) in the Federal Register (73 FR 54309), which amended 19 CFR 12.104g(a) to reflect the extension of these import restrictions for an additional period of five years and to revise the designated list to reflect the addition of new categories of objects (glass and bone) and additional subcategories of stone and metal objects from the Bronze Age (c. 1500-500 B.C.) and the Iron Age (c. 500 B.C.-A.D. 550), covering archaeological material from the Bronze Age through the Khmer Era (16th century A.D.). On September 16, 2013, CBP published CBP Dec. 13-15 in the Federal Register (78 FR 56832), which amended 19 CFR 12.104g(a) to reflect the extension of these import restrictions for an additional period of five years.

On September 19, 2018, pursuant to a Memorandum of Understanding concluded on September 12, 2018 (2018 MOU), in which the Governments of the United States and Cambodia agreed to extend the import restrictions for another five years, CBP published CBP Dec. 18-11 in the Federal Register (83 FR 47283), which amended § 12.104g(a) to reflect the extension of these import restrictions for an additional period of five years.

On December 21, 2022, the United States Department of State proposed in the Federal Register (87 FR 78184), to extend the 2018 MOU. On May 10, 2023, after consultation with and recommendation by the Cultural Property Advisory Committee, the Acting Assistant Secretary for Educational and Cultural Affairs, United States Department of State, made the determinations necessary to extend and amend the 2018 MOU.

On August 30, 2023, the Governments of the United States and Cambodia signed a new agreement to extend the import restrictions, include additional categories of archaeological and ethnological material, and clarify existing categories of archaeological material, titled “Agreement between the Government of the United States of America and the Government of the Kingdom of Cambodia to Extend and Amend the Memorandum of Understanding between the Government of the United States of America and the Government of the Kingdom of Cambodia Concerning the Imposition of Import Restrictions on Categories of Archaeological Material of Cambodia” (2023 Agreement). The 2023 Agreement entered into force upon signature and supersedes the 2018 MOU. Pursuant to the 2023 Agreement, the amended import restrictions continue through September 19, 2028.

Accordingly, CBP is amending 19 CFR 12.104g(a) to reflect the amendment of the Designated List of cultural property described in CBP Dec. 03-28 and last revised by CBP Dec. 08-40. The amendments include the expansion of dates for archaeological material, clarified descriptions of certain categories of archaeological material, and the addition to the archaeological material section of a category for wood and subcategories for sima, boundary markers, seals and weights, and coins. The amendments also include the addition of an ethnological material section. The restrictions on the importation of archaeological and ethnological material will be in effect through September 19, 2028. Importation of such material of Cambodia, as described in the Designated List below, will be restricted through that date unless the conditions set forth in 19 U.S.C. 2606 and 19 CFR 12.104c are met.

The Designated List and additional information may also be found at the following website address: https://eca.state.gov/cultural-heritage-center/cultural-property-advisory-committee/current-import-restrictions by selecting the material for “Cambodia.”

Designated List of Archeological and Ethnological Material of Cambodia

To fulfill the terms of the 2023 Agreement, the Designated List contained in T.D. 99-88 and last revised by CBP Dec. 08-40, is amended to reflect the addition to the archaeological material section of a category for wood, subcategories for sima, boundary markers, seals and weights, and coins, as well as the expansion of dates for archaeological material and clarified descriptions of certain categories of archaeological material. The amendments also include the addition of an ethnological material section.

The Designated List includes archaeological and ethnological material. Archaeological material ranges in date from approximately 2,500 B.C. to A.D. 1750. Ethnological material ranges in date from A.D. 1400 to 1891. For the reader's convenience, CBP is reproducing the Designated List contained in T.D. 99-88 and last revised by CBP Dec. 08-40 in its entirety with these changes.

The list is divided into the following categories of objects:

I. Archaeological Material

A. Stone

B. Metal

C. Ceramics

D. Glass

E. Bone

F. Wood

II. Ethnological Material

A. Architectural Materials

B. Manuscripts

C. Religious Objects

I. Archaeological Material

Restricted archaeological material from Cambodia includes the categories listed below. The following list is representative only.

A. Stone

This category consists largely of materials made of sandstone, including many color shades (gray to greenish to black, pink to red and violet, and some yellowish tones) and varying granulosity. Due to oxidation and iron content, the stone surface can become hard and take on a different color from the stone core. These surface colors range from yellowish to brownish to different shades of gray. This dense surface can be polished. Some statues and reliefs are coated with a kind of clear shellac or lacquer of different colors (black, red, gold, yellow, brown). The surface of sandstone pieces can also be quite rough. Chipped surfaces can be white or gray in color. In the absence of any systematic technical analysis of ancient Khmer stonework, no exact description of other stone types can be provided. It is clear that other types of stone were also used (some volcanic rock, rhyolite, and schist, etc.), but these are nonetheless exceptional. Some quartz objects are also known. Precious and semi-precious stones were also used as applied decor or in jewelry settings.

Different types of stone degradation can be noted. Eroded surfaces result from sanding (loss of surface grains), contour scaling (detachment of surface plaques along contour lines), flaking, and exfoliation. The stone can also split along sedimentation layers. Chipping or fragmentation of sculpted stone is also common.

Stone objects included here come under several periods: Bronze Age (c. 2500-500 B.C.), Iron Age (c. 500 B.C.-A.D. 550), pre-Angkorian (6th-9th century), Angkorian (9th-15th century), and post-Angkorian (15th century-1750 A.D.). Many stone objects can be firmly assigned to one of these periods; some, notably architectural elements and statues, can be further assigned a specific style and a more precise date within the given period.

1. Sculpture

a. Architectural Elements—Stone was used for religious architecture in the pre-Angkorian and Angkorian periods. The majority of ancient Khmer temples were built almost entirely in stone. Even for those temples built primarily in brick, numerous decorative elements in stone were also employed. Only small portions of early post-Angkorian edifices were built in stone. The architectural elements that follow are therefore characteristic of pre-Angkorian and Angkorian times. Post-Angkorian forms are also included. The state of the material varies greatly, with some objects being well preserved, while others are severely eroded or fragmented. The sculpture of some pieces remains unfinished.

i. Pediments—Pediments are large decorative stone fixtures placed above temple doorways. They are triangular or round in shape and composed of two or more separate blocks that are fitted together and sculpted with decorative motifs. The ensemble can range from approximately 1-3 meters in width and 1-3 meters in height. Motifs include floral scrolls, medallions, human figures, and animals. A whole scene from a well-known story can also be represented.

ii. Lintels—Lintels are rectangular monoliths placed directly above temple entrance gates or doorways, below the pediments described above. They are decorated with motifs similar to those of pediments. They can reach up to nearly one meter in height and one- and one-half meters in width.

iii. False Doors—Three of the four doorways of a temple sanctuary are frequently “false doors”; that is, though they are sculpted to look like doors, they do not open. They bear graphic and floral motifs, sometimes integrating human and animal figures. These doors can reach up to more than two meters in height and more than one meter in width. They can be monolithic or composed of separate blocks fitted together.

iv. Columnettes and Door Jambs—Columnettes (or colonettes) are decorative columns placed on either side of a temple door entrance. Door jambs are decorative panels placed on either side of a temple entrance door. They can be sculpted in deep relief out of a temple doorway and therefore remain attached to the doorway on their back side. The earliest columnettes are round and sculpted with bands which themselves are sculpted with decorative motifs. Later in the Angkorian period, the columnettes are octagonal in shape and bear more complex and abundant sculpted decor on the concentric bands. This decor includes graphic designs (pearls, diamond shapes, flowers, etc.) repeated at regular intervals along the length of the column. The base of the column is square and is also sculpted with diverse motifs and figures. The columnettes can reach around 25 cm. in diameter and more than two meters in height. Door jambs can reach more than two meters in height.

v. Pilasters—Pilasters are decorative rectangular supports projecting partially from the wall on either side of a temple doorway. They are treated architecturally as columns with a base, shaft, and capital. Motifs include floral scrolls and graphic designs of pearls, diamond shapes, etc., as well as human or animal figures. They range in width from approximately 20-30 cm. and can reach a height of more than two meters.

vi. Antefixes—Antefixes are decorative elements placed around the exterior of each level of temple tower. They are small free-standing sculptures and can take multiple forms, including but not limited to graphic designs, animal figures, human figures in niches, and miniature models of temples.

vii. Balustrade Finials—Long balustrades in the form of mythical serpents are found in many Angkorian temples. Often, these line either side of the entrance causeways to temples. The ends of the balustrade take the form of the serpent's multiple cobra-like heads.

viii. Wall Reliefs—Much of the surface area of most temples is sculpted with decorative reliefs. This decor includes graphic designs and floral motifs as well as human or animal figures. The figures can range in size from just a few centimeters to more than one meter in height. They can be integrated into the decor or set off in niches. Narrative scenes can also be represented.

ix. Other Decorative Items—Other decorative items include wall spikes, roof tile finials, sculpted steps, and other architectural decorations.

x. Simas—Simas are often decorated and carved stone pillars placed around the vihara of Buddhist monasteries at each of the eight compass directions marking the place where monks performed rituals. Sima forms are typically a decorative pillar with a conical top carved in various shapes. Some sima forms are spherical. The tops of simas are often gently peaked and may have Buddhist iconography. Decorative carved motifs typically include animals, Buddha's life stories, worshipers, and/or vegetal motifs.

b. Free-Standing Sculptures—The pre-Angkorian and Angkorian periods are characterized by extensive production of statuary in stone. Some stone statuary was also produced during the post-Angkorian period. This statuary is relatively diverse, including human figures ranging from less than one half meter to nearly three meters in height, as well as animal figures. Some figures, representations of Hindu gods, have multiple arms and heads. Figures can be represented alone or in groups of two or three. When male and female figures are presented together as an ensemble, the female figures are often disproportionately smaller than their male counterparts. Some are part-human, part-animal. Figures can be standing, sitting, or riding animal mounts. Many figures are represented wearing crowns or special headdresses and holding attributes such as a baton or a conch shell. Clothing and sometimes jewelry are sculpted into the body. Though statues are generally monolithic, later post-Angkorian statues of Buddha can have separate arms sculpted in wood and attached to the stone body. Many statues were once lacquered in black, dark brown, red, or gold colors and retain lacquer traces. Some yellow lacquer is also found.

i. Human and Hybrid (Part-Human, Part-Animal) Figures—Examples include statues of the eight-armed god and the four-armed god, representations of Buddha in various attitudes or stances, and female and male figures or deities, including parts (heads, hands, crowns, or decorative elements) of statuary and groups of figures. Examples include tantric Buddhist figures or representations of Hindu gods.

ii. Animal Figures—Examples include bulls, elephants, lions, and small mammals such as squirrels.

iii. Votive Objects and Non-figural Sculpture—Various abstract sculptures were also the object of religious representation from pre-Angkorian to post-Angkorian times. Examples include ritual phallic symbols (linga, lingam) and sculpted footprints of Buddha.

iv. Pedestals—Pedestals for statues can be square, rectangular, round, or octagonal. They vary greatly in size and can be decorated with graphic and floral decor, as well as animal or human figures. They are usually made of numerous components fitted together, including a base and a top section into which the statue is set.

v. Foundation Deposit Stones—Sacred deposits were placed under statues, as well as under temple foundations and in temple roof vaults, from pre-Angkorian to post-Angkorian times. Marks on these stones indicate sacred configurations, which could contain deposits such as gold or precious stones.

c. Stelae

i. Sculpted Stelae—Free-standing stelae, sculpted with shallow or deep reliefs, served as objects of worship and sometimes as boundary stones or boundary markers from pre-Angkorian to post-Angkorian times. Examples include stelae with relief images of gods and goddesses, Buddhas, figures in niches, and other symbols.

ii. Inscriptions—Texts recording temple foundations or other information were inscribed on stone stelae from pre-Angkorian to post-Angkorian times. Such texts can also be found on temple doorjambs, pillars, and walls. The stelae are found in various shapes and sizes and can also bear decorative reliefs, for example a bull seated on a lotus flower.

d. Sculpture in Brick—Brick was used mainly in pre-Angkorian and some relatively early Angkorian religious architecture. Yet, typically, while the bodies of buildings were in brick, some of the decorative elements listed above—pediments, lintels, etc., were in stone. The brick, of light orange color, was usually sculpted with a preliminary relief, which was then covered over with white stucco, itself sculpted along brick contours. Some brick reliefs seem to have been fully sculpted and not meant to be covered in stucco. Brick temple reliefs include graphic design, as well as floral or animal decor. Human and animal figures can also be represented.

e. Boundary Markers—Boundary markers were typically carved from a solid block of stone and reach approximately one meter in height. Boundary markers typically date from the 10th through 13th centuries A.D. Boundary markers were decorated in either Buddhist or Hindu iconography. Hindu decorative themes often portray depictions of Vishnu, while Buddhist decorative themes often portray the Buddha or Lokeshvara, sometimes with an additional deity featuring a domed or pointed top as a stupa, symbolizing Nirvana.

2. Jewelry

In the Bronze and Iron Ages, beads were made from semi-precious stones such as agate, carnelian, and occasionally garnet. Agate beads are banded stone, black to light brown to white in their bands. These are usually carved into tubular shapes. Carnelian beads are reddish orange and glassy. These are usually ball-shaped. Bronze and Iron Age stone bracelets have triangular or rectangular cross-sections.

3. Chipped and Ground Tools

During the Bronze and Iron Ages, chipped and ground tools such as adzes, whetstones, and arrowheads were made of metamorphic rock.

B. Metal

This category consists mainly of bronze objects. No singular alloy is characteristic of Cambodian bronzes, which contain varying degrees of copper, zinc, lead, iron, and tin. Surface colors can range from dark to light brown to goldish; a green patina is found on many objects. Some bronzes are also gilt. Some artwork in silver and gold also survives but is much less common.

Most objects were cast using “lost wax” casting with a “clay core” technique. This technique begins with a clay core, which is covered with a layer of wax before being covered with an outer layer of clay. The wax is then melted out with hot metal, which then hardened in the mold. Each casting is unique because the mold must be destroyed to obtain the metal object, Decor can be chiseled into the finished metal surface. As early as the Bronze and Iron Ages, these objects demonstrate a very high degree of technical skill. The “repoussé” technique, by which metal is beaten into shape in a concave mold, was also used.

Most of the objects presented here can be assigned to one of the periods defined for stone objects described previously: Bronze Age (c. 2500-500 B.C.), Iron Age (c. 500 B.C.-A.D. 550), pre-Angkorian (6th-9th century), Angkorian (9th-15th century), and post-Angkorian (15th century-A.D. 1750). Some pieces, in particular statuary and ritual or domestic accessories with motifs akin to architectural decor in stone, can also be assigned to specific styles and corresponding time periods within the larger historical periods.

1. Statues and Statuettes

Khmer metal statuary is comparable to Khmer stone statuary in both thematic and stylistic treatment (see general description of free-standing sculpture above). Statues can be represented alone or in groups ranging from human figures on animal mounts to triads, to more complex ensembles including architectural structures and decor. Though some colossal statues are known in both pre-Angkorian and Angkorian times, metal statues are, generally, relatively smaller in scale than their stone counterparts. Colossal statues can reach more than two meters in height; fragments demonstrate that one reclining figure measured some six meters in length. Such colossal pieces are nonetheless rare.

Statuettes as small as 15 cm. are common; larger statues more typically reach around one meter in height. Small-scale statues are generally composed of a single cast; separate pieces can be placed together, for example on a single pedestal, to form an ensemble. Larger works can be composed of multiple pieces fitted together with joints which can be concealed by chiseled decor. Some small statuettes are solid. Others are composed of two plaques, one for the front of the piece and the other for the back; the plaques are filled with a resin- or tar-based substance and soldered together. Larger pieces are hollow. Bronze statuaries were most prevalent in the Bayon period (late 12th to early 13th century).

Post-Angkorian bronze statues and statuettes, like their stone counterparts, take on certain characteristics of Siamese sculpture but can nonetheless usually be identified as Khmer due to certain types of decor and bodily form which maintain or develop from a specific Angkorian tradition.

a. Human and Hybrid (Part-Human, Part-Animal) Figures—Examples include, but are not limited to, standing male figures, Buddhas, four-armed male figures, female figures, gods, and goddesses, all in various attitudes and dress, including fragments of sculpture such as hands, arms, and heads.

b. Animal Figures—Animal representations in metal, typically bronze or silver, resemble those in stone in both thematic and stylistic treatment. Statues and statuettes include primarily bulls, lions, and elephants with one or three trunks. Other animals, such as horses, are also represented but are less common. Known colossal animal images date from 600 B.C. to the late 12th to early 13th century. Other animal figures, such as the mythical multiheaded serpent and mythical birds and monkeys, are also frequently found as decor of ritual or domestic objects.

c. Pedestals—Pedestals in bronze often appear to be simplified and reduced versions of their stone counterparts. One innovation of sculpting the base in openwork is to be noted.

2. Other Ritual and Domestic Objects

a. Special Objects Used in Ritual and Royal Pageantry—Special ritual objects include bells, bronze lotus flowers, conch shells, palanquin hooks, and musical instruments such as tambourines, etc.

b. Containers—Ritual and domestic containers include such items as perfume holders, oil lamps or bowls, lime pots, and boxes with decorative or sculptural features.

c. Decorative Elements from Ritual or Domestic Objects—In addition to the decorative accessory items noted below, there exist insignia finials for banner poles which often take the form of small human or animal figures.

d. Jewelry—Jewelry, including but not limited to rings, bracelets, arm bands, necklaces, earrings, decorative head pieces, and belts, could have been worn not only by people but also by statues. Bronze and Iron Age bracelets may be decorated with scrolls, spirals, and the heads of buffalo/cows. Different types of rings can be noted: ring-stamps, rings with ornamental settings, rings with settings in the form of a bull or other animal, and rings with settings for stones.

e. Instruments—Diverse percussion instruments, including varying sizes of bells, drums, gongs, and cymbals, were made in bronze. These may carry geometric designs and/or images of humans and animals.

f. Animal Fittings—In addition to bells to be suspended around the necks of animals, common to both the Angkorian and the post-Angkorian periods, various kinds of decorative animal harness accessories are known in post-Angkorian times.

g. Seals and Weights—In lead and tin. Seals may be in the form of amulets, pendants, ring seals, or other designs. Weights may be molded into snail shaped weights or may be in round or square token forms.

3. Architectural Elements

Metal architectural elements include ceiling or wall plaques sculpted with flowers or other motifs, floral plaques, and panels.

4. Weapons and Tools

Metal weapons and tools include arrow heads, daggers, spear tips, swords, helmets, and sickles.

5. Coins

Rare coinage from the Funan area of Southern Cambodia is included. Coinage dates from the 1st through 6th centuries A.D. In gold, silver, gilded silver, or tin. Designs vary, but coins often bear the image of a rising sun, a deer, a rooster, a Garuda, a team of oxen, and other designs. Inscriptions may be present and in Kharosthi script or Sanskrit.

C. Ceramics

Bronze and Iron Age ceramics are primarily earthenwares with varying colors and surface treatments. Later ceramics include both glazed and unglazed stonewares. Stonewares, and particularly glazed wares, are characteristic of the Angkorian period (9th to 15th century). Khmer ceramic production primarily concerned functional vessels (vases, pots, etc.) but also included sculptures of figurines and architectural or other decorative elements. Angkorian period vessels were generally turned on a wheel and fired in kilns. Vessels range in size from around five to at least 70 cm. in height. Glaze colors are fairly limited and include creamy white, pale green (color of Chinese tea), straw-yellow, reddish-brown, brown, olive, and black. Light colors are generally glossy, while darker colors can be glossy or matte. Some two-colored wares, primarily combining pale green and brown, are also known. Decoration is relatively subtle, limited to incisions of graphic designs (criss-crosses, striations, waves, etc.), some sculpted decor such as lotus petal shapes, and molding (ridges, grooves, etc.); some applied work is also seen. Most decoration is found on shoulders and necks, as on lids; footed vessels are typically beveled at the base. Many wasters (imperfect pieces) are found and are also subject to illicit trade.

1. Sculpture

Ceramic sculpture known to have been produced in Cambodia proper largely concerns architectural elements. Though some figurines are known and are of notable refinement, statuary and reliefs in ceramics seem to be more characteristic of provincial production.

a. Architectural Elements—Some pre-Angkorian, Angkorian, and post-Angkorian period buildings, primarily but not exclusively royal or upper-class habitation, were roofed with ceramic tiles. The tiles include undecorated flat tiles and convex and concave pieces fitted together; a sculpted eave tile was placed as a decoration at the end of each row of tiles. These pieces were produced in molds and can be earthenware or stoneware (the latter unglazed or glazed). The unglazed pieces are orange in color; the glazed pieces are creamy white to pale green. Spikes placed at the crest of roof vaults can also be made in ceramics. These spikes were fit into a cylinder, also made of ceramics, which was itself fitted into the roof vault. Architectural ceramics sometimes have human heads and anthropomorphic or zoomorphic features.

b. Figurines and Ritual Objects—Figurines, statuettes, or plaques can include human, hybrid (part-human, part-animal), and animal figures. These are typically small in size (around 10 cm.). Ritual objects found in Cambodia proper are limited primarily to pieces in the shape of a conch shell, used for pouring sacral water or as blowing horns.

2. Vessels

a. Lidded Containers—Examples include round lidded boxes with incised or sculpted decoration, bulbous vases with lids, and jars with conical multi-tiered lids. Lids themselves include conical shapes and convex lids with knobs.

b. Lenticular Pots—Pots of depressed globular form are commonly referred to as lenticular pots. The mouth of the vessel is closed with a stopper.

c. Animal-shaped Pots—The depressed globular form can take animal shapes, with applied animal head, tail, or other body parts that can serve as handles. The animal-shaped pot is also found in other forms. Animal-shaped pots often contain remains of white lime, a substance used in betel nut chewing. Shapes include bulls, elephants, birds, horses, and other four-legged creatures.

d. Human-shaped Pots—Anthropomorphic vessels often have some applied and incised decoration representing human appendages, features, or clothing. The vessels are usually gourd-shaped bottles.

e. Bottles—This category includes a variety of vessels with raised mouths.

f. Vases—A variety of vases are grouped together under this general heading. Some are flat based and bulbous or conical. Others have pedestal feet. Some are characterized by their elongated necks. The “baluster vases,” for which Khmer ceramics are particularly known, have pedestal feet, conical bodies, relatively long necks, and flared mouths.

g. Spouted pots—These are kendi vessels, usually in the “baluster vase” form, that have short pouring spouts attached to the shoulder. Some spouted pots also have ring handles on the opposite shoulder.

h. Large jars—Large barrel-shaped jars or vats have flat bases, wide mouths, short necks, and flattened everted rims. They are always iron glazed.

i. Bowls—Bowls with broad, flat bases and flaring walls that are either straight or slightly concave, ending in plain everted or incurving rims, usually have green or yellowish glaze, although some brown-glazed bowls are known. Some are decorated with incised lines just below the rim. Most have deep flanges above the base; some are plain. Small hemispherical cups on button bases bear brown glaze. Another form is the bowl on a pedestal foot.

D. Glass

Bronze and Iron Age glass beads are usually very small (1-2 mm. across) and come in a range of colors from blue, green, red, and white. Other artifacts made of glass include spiral earrings and triangular bangle bracelets. The bracelets are light to dark green or blue-green and translucent.

E. Bone

Bone (and sometimes ivory or horn) beads, bangles, pendants, and combs are found at Bronze and Iron Age sites.

F. Wood

Archaeological wooden objects include architectural materials, free standing statues, and decorative wood used for religious and domestic purposes. The earliest wooden Buddhist images were produced during the pre-Angkorian period in the region of southern provinces, especially located in the Mekong delta, like the Angkor Borei site. Wooden archaeological materials date from 2500 B.C.-A.D. 1750. However, most architectural materials, wooden statues and decorative objects were found from the 9th century until A.D. 1750.

1. Architectural Elements

Includes wooden beams and ceiling panels. Ceiling panels are often decorated with floral motifs.

2. Human and Hybrid (Part-Human, Part-Animal) Figures

Examples include free-standing sculptures including Buddhist sculptures, human and hybrid (half-human, half-animal) figures. Free standing sculpture was often on a rectangular, round, or square pedestal base. Bases may or may not have decoration.

3. Animal Figures

Examples include birds, bulls, elephants, lions, and mythical animals.

4. Domestic Objects

Includes wooden tools and implements used for farming and fishing, and weapons.

II. Ethnological Material

Restricted ethnological material from Cambodia includes the categories listed below. The following list is representative only.

A. Architectural Materials

1. Wooden Architectural Materials

Includes carved wooden architectural elements from monasteries and pagodas, dating from A.D. 1400 through 1891. Architectural pieces (some of which may be lacquered) include apexes; ceilings; columns; decorative balusters; doors; finials; panel paintings; pediments and pediment facia boards; pilasters; pillars; roofs, roof supports, and eaves; wall plaques; wall bars; and windows. Some carved architectural material may be decorated with animal, animal/human hybrid, or other mythical figures.

2. Stone Architectural Materials

Simas are often decorated and carved stone pillars placed around the vihara of Buddhist monasteries at each of the eight compass directions marking the place where monks performed rituals. Sima forms are typically a decorative pillar with a conical top carved in various shapes. Some sima forms are spherical. The tops of simas are often gently peaked and may have Buddhist iconography. Decorative carved motifs typically include animals, Buddha's life stories, worshipers, and/or vegetal motifs. Simas that date from A.D. 1400 through 1891 are included.

B. Manuscripts

Includes handwritten manuscripts on paper or palm leaf dating from A.D. 1400 through 1891. May be bound or in single sheets or leaves.

1. Palm Leaf Manuscripts

Palm leaf manuscripts can be in single leaves or bound into volumes. The scripts are typically Khmer Mul script or Pali-Khmer. The text on palm leaf manuscripts tends to be incised and blackened. Palm leaf manuscripts typically discuss Buddhist scripture, sermons, legal writings, classical literary texts, secular topics, and poetry. Includes materials used to bind palm leaf manuscripts.

2. Paper Manuscripts

Paper manuscripts can be single sheets or in a folded book form. Paper was usually crafted from mulberry bark. Paper can be in a natural cream color with text written in black ink, or it can be blackened, and text written either with white chalk, a yellow gamboge ink or gold ink. Two main styles of Khmer script found on paper manuscripts include aksar chrieng (slanted script) and aksar mul (round script). Paper manuscripts typically discuss Buddhist scripture, sermons, prophesies, and medicine.

C. Religious Objects

1. Wooden Statues and Statuettes

Includes statues of adorned and unadorned Buddhas dating from A.D. 1400 through 1891. May be seated or standing. Bases may be carved, often with a lotus design. Wooden statues may be decorated with red lacquer, black lacquer, gold leaf, paint, and/or incrustations of glass. Standing statues typically range from 80 cm. to three meters in height. Smaller statuettes typically range from 50 to 70 cm. in height.

2. Metal Statues and Statuettes

Includes statues of adorned and unadorned Buddhas dating from A.D. 1400 through 1891. May be seated or standing. Bases may be carved, often with a lotus design. Heights vary, typically between 14 to 40 cm. Often crafted in bronze or silver.

3. Religious Objects

Includes both symbolic and anthropomorphic objects, bells, chariot fixtures, percussion instruments including varying sizes of gongs and cymbals, ritual candle holders (popil), and betel containers made of bronze dating from A.D. 1400 through 1891.

Inapplicability of Notice and Delayed Effective Date

This amendment involves a foreign affairs function of the United States and is, therefore, being made without notice or public procedure under 5 U.S.C. 553(a)(1). For the same reason, a delayed effective date is not required under 5 U.S.C. 553(d)(3).

Regulatory Flexibility Act

Because no notice of proposed rulemaking is required, the provisions of the Regulatory Flexibility Act (5 U.S.C. 601, et seq.) do not apply.

Executive Order 12866

CBP has determined that this document is not a regulation or rule subject to the provisions of Executive Order 12866 because it pertains to a foreign affairs function of the United States, as described above, and therefore is specifically exempted by section 3(d)(2) of Executive Order 12866.

Signing Authority

This regulation is being issued in accordance with 19 CFR 0.1(a)(1) pertaining to the Secretary of the Treasury's authority (or that of his/her delegate) to approve regulations related to customs revenue functions.

Troy A. Miller, the Senior Official Performing the Duties of the Commissioner, having reviewed and approved this document, has delegated the authority to electronically sign this document to the Director (or Acting Director, if applicable) of the Regulations and Disclosure Law Division for CBP, for purposes of publication in the Federal Register.

List of Subjects in 19 CFR Part 12

Cultural property, Customs duties and inspection, Imports, Prohibited merchandise, Reporting and recordkeeping requirements.

Amendment to the CBP Regulations

For the reasons set forth above, part 12 of title 19 of the Code of Federal Regulations (19 CFR part 12) is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, the table in paragraph (a) is amended by revising the entry for Cambodia to read as follows:

§ 12.104g Specific items or categories designated by agreements or emergency actions.

(a) * * *

State party | Cultural property | Decision No.
* * * * * * *
Cambodia | Archaeological material of Cambodia ranging from approximately 2,500 B.C. to A.D. 1750, and ethnological material of Cambodia ranging from approximately A.D. 1400 to 1891 | CBP Dec. 23-11.
* * * * * * *

* * * * *

Robert F. Altneu,
Director Regulations & Disclosure Law Division, Regulations & Rulings, Office of Trade U.S. Customs and Border Protection.
Approved:
Thomas C. West, Jr.,
Deputy Assistant Secretary of the Treasury for Tax Policy.

[FR Doc. 2023-20335 Filed 9-18-23; 8:45 am]

BILLING CODE 9111-14-P